DEPARTMENT OF DEFENSE

Department of the Navy

Notice of Availability of Government-Owned Inventions; Available for Licensing

AGENCY: Department of the Navy.

ACTION: Notice.

SUMMARY: The invention listed below is assigned to the United States Government as represented by the Secretary of the Navy and is available for domestic and foreign licensing by the Department of the Navy.

The following patent is available for licensing: U.S. Provisional Patent No. 62/038569: SPINDLE LOCATOR TOOL

ADDRESSES: Requests for a copy of the invention cited should be directed to NAVFAC Engineering & Expeditionary Warfare Center, RDT&E C19, 1100 23rd Avenue, Port Hueneme, CA 93043-4370.

FOR FURTHER INFORMATION CONTACT: Victor Cai, Technology Transfer Office, NAVFAC-EXWC RDT&E C19, 1100 23rd Avenue, Port Hueneme, CA 93043-4370 telephone 805-982-3009, FAX 805-982-1253, email: victor.cai@navy.mil.

SUPPLEMENTARY INFORMATION: The Spindle Locator Tool enables identification of proper and improper placement of a spindle in a locking mechanism. Specifically, it will be used for the X-10 electromechanical lock which has experienced a spindle and cam interface issue that can result in lockouts requiring neutralization.

(Authority: 35 U.S.C. 207, 37 CFR part 404)

Dated: October 6, 2015.
N. A. Hagerty-Ford,
Commander, Office of the Judge Advocate General, U.S. Navy, Federal Register Liaison Officer.

[FR Doc. 2015-26215 Filed 10-14-15; 8:45 am]

BILLING CODE 3810-FF-P